DEPARTMENT OF HEALTH AND HUMAN SERVICES

Centers for Disease Control and Prevention

National Center for Chronic Disease Prevention and Health Promotion, Interagency Committee on Smoking and Health (ICSH)

In accordance with section 10(a) (2) of the Federal Advisory Committee Act (Pub. L. 92-463), the Centers for Disease Control and Prevention (CDC) announces the following meeting of the aforementioned committee.

Time and Date: 9:00 a.m.-4:00 p.m., EDT, May 31, 2017.

Place: U.S. Department of Health and Human Services, Hubert H. Humphrey Building, the Great Hall, located at 200 Independence Avenue SW., Washington, DC 20201, Telephone: (202) 245-0552. This meeting is also accessible by teleconference.

Login information for teleconference is as follows:

Toll Free Phone#: (800) 593-8961.

Participant Passcode: 3435645.

Participants can join the visual portion only for this event directly at: https://webconf.cdc.gov/zqe0/3d9qzwzb.

If you are offered the option to join audio, please select “don't join audio” and use the Toll Free number listed above.

Status: Open to the public, limited only by the space and telephone lines available. Time will also be available for public comment. To register for this meeting please email the contact person below (see Contact Person for More Information). If you will require a sign language interpreter, or have other special needs, please notify the contact person by 4:30 p.m., EDT, on May 18, 2017.

Purpose: The Interagency Committee on Smoking and Health shall provide advice and guidance to the Secretary, Department of Health and Human Services (HHS), regarding: (a) Coordination of research, educational programs, and other activities within the Department that relate to the effect of smoking on human health and on coordination of these activities, with similar activities of other Federal and private agencies; and (b) establishment and maintenance of liaisons with appropriate private entities, other Federal agencies, and State and local public agencies, regarding activities relating to the effect of cigarette smoking on human health.

Matters for Discussion: The topic of the meeting is “Increasing the Impact of Evidence-Based Tobacco Treatment” and the objective of the meeting is to identify federal actions to increase the reach and effectiveness of efforts to help smokers quit.

Agenda items are subject to change as priorities dictate.

Contact Person for More Information: Monica L. Swann, Management and Program Analyst, National Center for Chronic Disease Prevention and Health Promotion, CDC, 395 E. Street SW., Washington, DC 20024, Telephone: (202) 245-0552; email: mswann@cdc.gov.

The Director, Management Analysis and Services Office has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-09208 Filed 5-5-17; 8:45 am]

BILLING CODE 4163-18-P